DEPARTMENT OF DEFENSE

Department of the Army, Corps of Engineers

Withdrawal of Notice of Intent To Prepare a Joint Draft Supplemental Environmental Impact Statement for a Proposed Navigation Improvement Project at Maalaea Harbor, Maui, HI (Second SEIS for the Project)

AGENCY: Department of the Army, U.S. Army Corps of Engineers, DoD.

ACTION: Notice of intent (withdrawal).

SUMMARY: On July 9, 1997, the U.S. Army Corps of Engineers (USACE) announced its intent to prepare a joint Draft Supplemental Environmental Impact Statement (SEIS) in accordance with the National Environmental Policy Act (NEPA) of 1969, as amended, for the Proposed Navigation Improvement Project at Maalaea Harbor, Maui, Hawaii. The Maalaea Harbor project, sponsored by USACE and the State of Hawaii, Department of Land and Natural Resources, Division of Boating and Ocean Recreation (DOBOR), was originally authorized under Section 101 of the Rivers and Harbors Act of 1968, as amended. The Draft SEIS would have evaluated the environmental impacts of potential alternatives to address navigational safety and surge-related problems in Maalaea Harbor.

Based on careful consideration of the implementation costs, regulatory requirements, and other concerns expressed by the community, the navigation improvement project for the Maalaea Harbor has been terminated by the project sponsors. Therefore, future preparation of an EIS is not necessary. The notice of intent to prepare an EIS is withdrawn and the NEPA process is hereby terminated.

FOR FURTHER INFORMATION CONTACT: Further information is available on the Web site for the project at http://www.maalaeaharborproject.com/ or from Ms. Cindy Barger, Project Manager, U.S. Army Corps of Engineers, Honolulu District, ATTN: CEPOH-PP-C, Room 307, Building 230, Ft. Shafter, HI 96858, email: cindy.s.barger@usace.army.mil, telephone: (808) 438-6940.

SUPPLEMENTARY INFORMATION: The U.S. Army Corps of Engineers (USACE) was investigating navigation improvements at Maalaea Harbor, Maui, Hawaii, originally authorized in 1968. The local sponsor of the project was the State of Hawaii, Department of Land and Natural Resources, Division of Boating and Ocean Recreation (DOBOR). Over the course of time, a variety of alternative project designs, including both external and internal breakwater structures were investigated to address the navigational safety and surge-related problems. However, concerns over impacts to adjacent surf breaks and biological resources were raised on several occasions, resulting in multiple delays in the planning process. Most recently, USACE and DOBOR re-initiated the project in 2009, with a focus on using stakeholder input and updated technical information to better define and inform the planning process. Through this effort, the decision to terminate the project was made based on careful consideration of the high cost associated with the proposed improvements (particularly in light of the current and foreseeable economic conditions), the regulatory constraints and mitigation requirements for unavoidable impacts to coral reefs, and community concerns regarding impacts to surf sites and natural resources.

A variety of technical studies and planning documents were produced in support of the project, including flushing studies, habitat surveys, and wave response modeling. The public may request copies of reports. The public will be notified of the termination of the project through a public notice, as well as a press release by the project sponsors. The press release will be published on the project Web site and posted at Maalaea Harbor.

Brenda S. Bowen,
Army Federal Register Liaison Officer.

[FR Doc. 2012-10793 Filed 5-3-12; 8:45 am]

BILLING CODE 3720-58-P